ENVIRONMENTAL PROTECTION AGENCY

40 CFR Part 52

[EPA-R01-OAR-2023-0189; FRL-10876-02-R1]

Air Plan Approval; Connecticut; New Source Review Permit Program State Plan Revision

Correction

In Rule document, 2023-18909, appearing on pages 60591 through 60594, in the issue of Tuesday, September 5, 2023, on page 60591, the first sentence of the SUMMARY section is corrected to read as follows:

“The Environmental Protection Agency (EPA) is approving revisions to the Connecticut State Implementation Plan (SIP) concerning its New Source Review (NSR) permit program.”

[FR Doc. C1-2023-18909 Filed 9-21-23; 8:45 am]

BILLING CODE 0099-10-P